DEPARTMENT OF ENERGY

Federal Energy Regulatory Commission

[Docket Nos. RP00-459-002, RP01-32-002, RP01-477-005 and RP02-5-003]

TransColorado Gas Transmission Company; Notice of Compliance Filing

August 12, 2002.

Take notice that on August 5, 2002, TransColorado Gas Transmission Company (TransColorado) tendered for filing as part of its FERC Gas Tariff, Original Volume No. 1, the proposed tariff sheets listed on Appendix A to the filing.

TransColorado states that the filing is being made in compliance with the Commission's Order on Compliance with Order Nos. 637, 587-G and 587-L issued on July 5, 2002, (the July 5th order) in Docket Nos. RP00-459-000, RP01-32-000, RP01-477-000 and RP02-5-000,

The July 5th order approved, in part, TransColorado's pro forma tariff sheets filed August 15, 2000, and directed TransColorado to make further modifications. TransColorado tendered for filing, proposed actual tariff sheets that include the language in TransColorado's August 15, 2000, pro forma compliance filing as well as language that comports with the Commission's directives. These modifications are included in Original Volume No. 1 of TransColorado's FERC Gas Tariff proposed to be effective four months after issuance of a final order approving the tariff sheets in all of the Kinder Morgan Pipeline group to allow the modification of computer software and hardware in tandem.

This filing complies with the Commission's directives, subject to the outcome of TransColorado's Request for Rehearing and Clarification to be filed on August 2, 2002, regarding several issues of compliance in this proceeding.

TransColorado states that a copy of this filing has been served upon its customers, the Colorado Public Utilities Commission and the New Mexico Public Utilities Commission.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20834 Filed 8-15-02; 8:45 am]

BILLING CODE 6717-01-P